DEPARTMENT OF LABOR

Office of the Secretary

Agency Information Collection Activities; Submission for OMB Review; Comment Request; Current Population Survey—Displaced Worker, Job Tenure, and Occupational Mobility Supplement

ACTION: Notice.

SUMMARY: The Department of Labor (DOL) is submitting the Bureau of Labor Statistics (BLS) sponsored information collection request (ICR) titled, “Current Population Survey—Displaced Worker, Job Tenure, and Occupational Mobility Supplement,” to the Office of Management and Budget (OMB) for review and approval for reinstatement, without change, in accordance with the Paperwork Reduction Act of 1995 (PRA), 44 U.S.C. 3501 et seq.

DATES: Submit comments on or before December 18, 2013.

ADDRESSES: A copy of this ICR with applicable supporting documentation; including a description of the likely respondents, proposed frequency of response, and estimated total burden may be obtained free of charge from the RegInfo.gov Web site at http://www.reginfo.gov/public/do/PRAViewICR?ref_nbr=201308-1220-001 (this link will only become active on the day following publication of this notice) or by contacting Michel Smyth by telephone at 202-693-4129 (this is not a toll-free number) or sending an email to DOL_PRA_PUBLIC@dol.gov.

Submit comments about this request by mail or courier to the Office of Information and Regulatory Affairs, Attn: OMB Desk Officer for DOL-BLS, Office of Management and Budget, Room 10235, 725 17th Street NW., Washington, DC 20503; by Fax: 202-395-6881 (this is not a toll-free number); or by email: OIRA_submission@omb.eop.gov. Commenters are encouraged, but not required, to send a courtesy copy of any comments by mail or courier to the U.S. Department of Labor-OASAM, Office of the Chief Information Officer, Attn: Information Policy and Assessment Program, Room N1301, 200 Constitution Avenue NW., Washington, DC 20210; or by email: DOL_PRA_PUBLIC@dol.gov.

FOR FURTHER INFORMATION: Contact Michel Smyth by telephone at 202-693-4129 (this is not a toll-free number) or by email at DOL_PRA_PUBLIC@dol.gov.

Authority: 44 U.S.C. 3507(a)(1)(D).

SUPPLEMENTARY INFORMATION: This ICR seeks to reinstate a previously approved information collection. The BLS conducts the Current Population Survey Displaced Worker, Job Tenure, and Occupational Mobility supplement biennially, and the supplement was last collected in January 2012. This supplement gathers information on workers who have lost or left their jobs because their plant or company closed or moved, there was insufficient work for the workers to perform, or their position or shift was abolished. The BLS will collect data on the extent to which displaced workers received advance notice of job cutbacks or the closing of their plant or business. The supplement also gathers data on the types of jobs reemployed workers have found and will compare current earnings with those from the lost job. In addition, the supplement will query for the incidence and nature of occupational changes in the preceding year.

The survey also probes for the length of time workers, including those who have not been displaced, have been with their current employer. The BLS will collect additional data on the receipt of unemployment compensation, the loss of health insurance coverage, and the length of time spent without a job.

Information collected by this survey will be used to estimate the size and nature of the population affected by job displacements and to determine the needs and scope of programs serving adult displaced workers. The information will also will be used to assess employment stability by determining the length of time workers have been with their current employer and to estimate the incidence of occupational change over the course of a year. Combining the questions on displacement, job tenure, and occupational mobility will enable analysts to obtain a more complete picture of employment stability.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. For additional information, see the related notice published in the Federal Register on July 29, 2013 (78 FR 50450).

Interested parties are encouraged to send comments to the OMB, Office of Information and Regulatory Affairs at the address shown in the ADDRESSES section within 30 days of publication of this notice in the Federal Register. In order to help ensure appropriate consideration, comments should mention OMB Control Number 1220-0104. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-BLS.

Title of Collection: Current Population Survey—Displaced Worker, Job Tenure, and Occupational Mobility Supplement.

OMB Control Number: 1220-0104.

Affected Public: Individuals or households.

Total Estimated Number of Respondents: 55,000.

Total Estimated Number of Responses: 55,000.

Total Estimated Annual Burden Hours: 7,333.

Total Estimated Annual Other Costs Burden: $0.

Dated: November 12, 2013.
Michel Smyth,
Departmental Clearance Officer.

[FR Doc. 2013-27424 Filed 11-15-13; 8:45 am]

BILLING CODE 4510-24-P